DEPARTMENT OF COMMERCE

Patent and Trademark Office

[Docket No. PTO-C-2006-0044]

Notice of Roundtable on the World Intellectual Property Organization (WIPO) Treaty on the Protection of the Rights of Broadcasting Organizations

AGENCY: United States Patent and Trademark Office, Department of Commerce.

ACTION: Notice announcing public forum.

SUMMARY: The United States Patent and Trademark Office (USPTO) and United States Copyright Office (USCO) announce a public roundtable discussion concerning the work at the World Intellectual Property Organization (WIPO) in the Standing Committee on Copyright and Related Rights (SCCR) on a proposed Treaty On the Protection of the Rights of Broadcasting Organizations. Members of the public are invited to attend the roundtable, or to participate in the roundtable discussion, on the topics outlined in the supplementary information section of this notice.

DATES: The roundtable will be held on Tuesday, September 5, 2006, beginning at 1 p.m. and ending at 3 p.m.

ADDRESSES: The roundtable will be held in the Atrium Conference Room at the USPTO, 600 Dulany Street, Madison West, 10th Floor, Alexandria, VA 22313. Requests for participation as a member of the roundtable are required and should be directed to the USPTO, 600 Dulany Street, Madison West, 10th Floor, Alexandria, VA 22313, marked to the attention of Jill Taylor. You may also submit requests by facsimile at 571-273-0085 or by electronic mail through the Internet to Jill.Taylor@USPTO.gov. Requests for participation as a member of the roundtable should indicate the following information:

1. The name of the person desiring to participate;

2. The organization or organizations represented by that person, if any;

3. Contact information (address, telephone, and e-mail);

4. Information on the specific focus or interest of the participant (or his or her organization) and any questions or issues the participant would like to raise.

The deadline for receipt of requests to participate in the roundtable is 5 p.m. on Thursday, August 31, 2006. Attendance is limited to the first 40 respondents.

FOR FURTHER INFORMATION CONTACT: Jill Taylor by telephone at 571-272-8083, by facsimile at 571-273-0085, by electronic mail at Jill.Taylor@USPTO.gov, or by mail addressed to the USPTO, 600 Dulany Street, Madison West, 10th Floor, Alexandria, VA 22313, marked to the attention of Jill Taylor.

SUPPLEMENTARY INFORMATION:

Background

For the past eight years and since the first meeting of the Standing Committee on Copyright and Related Rights in November 1998, WIPO has been addressing the topic of updating the protection of the rights of broadcasting organizations. Although broadcasters rights are protected under some existing international agreements, such as under the 1961 Convention for the Protection of Performers, Producers of Phonograms and Broadcasting Organizations and the World Trade Organization's Agreement on Trade-Related Aspects of Intellectual Property Rights, there has been increasing concern that changes in technology and the opening up of much of the world to commercial broadcasting, have made the protection provided in those agreements ineffective to protect broadcast signals against piracy.

At the September 2005 WIPO General Assembly, the decision was taken to hold additional meetings of the SCCR to permit further discussion of the possible treaty and to invite the 2006 WIPO General Assembly to convene a Diplomatic Conference in December 2006 or at an appropriate time in 2007.

WIPO posts various documents from their meetings, such as reports, member state submissions, meeting agendas, and [official] texts prepared by the Chair of the SCCR. The most recent text available from July 31, 2006—“Revised Draft Basic Proposal for The WIPO Treaty on the Protection of Broadcasting Organizations” can be found at http://www.wipo.int/meetings/en/doc_details.jsp?doc_id=64712. On August 1, 2006, the United States made a submission to WIPO addressing the issue of “netcasting” which is available at http://www.uspto.gov/web/offices/dcom/olia/ and will shortly be available on the WIPO Web site.

Throughout this process in WIPO, many points of view have been represented, including those of developed and developing countries, and many non-governmental organizations (NGOs), and numerous industry, creator and content owner groups. The USPTO and USCO have participated in several informal meetings with interested parties such as broadcasters, netcasters, telecom companies, Internet service providers, content industries, creators and other NGOs, in order to obtain views and information relevant to the deliberations in the SCCR on this proposed treaty.

In order to allow further opportunity for interested parties to comment, USPTO and USCO are convening this roundtable to provide another forum for such parties to provide their views of and additional information related to the proposed treaty. In particular, the participants should be prepared to identify and discuss more fully the issues and problems associated with the recent text available from July 31, 2006, the “Revised Draft Basic Proposal for The WIPO Treaty on the Protection of Broadcasting Organizations.”

Dated: August 15, 2006.
Stephen M. Pinkos,
Acting Under Secretary of Commerce for Intellectual Property and Acting Director of the United States Patent and Trademark Office.

[FR Doc. E6-13680 Filed 8-16-06; 8:45 am]

BILLING CODE 3510-16-P